DEPARTMENT OF COMMERCE

International Trade Administration

[A-570-909]

Certain Steel Nails From the People's Republic of China: Final Results of Expedited First Sunset Review of the Antidumping Duty Order

AGENCY: Enforcement and Compliance, formerly Import Administration, International Trade Administration, Department of Commerce.

SUMMARY: On July 1, 2013, the Department of Commerce (the “Department”) initiated the first five-year (“sunset”) review of the antidumping duty order on certain steel nails from the People's Republic of China (“PRC”) pursuant to section 751(c) of the Tariff Act of 1930, as amended (the “Act”).¹ As a result of this sunset review, the Department finds that revocation of the antidumping duty order on certain steel nails from the PRC would be likely to lead to continuation or recurrence of dumping at the levels indicated in the “Final Results of Review” section of this notice.

¹ See Initiation of Five-Year (“Sunset”) Review, 78 FR 39256 (July 1, 2013).

DATES: Effective Date: November 20, 2013.

FOR FURTHER INFORMATION CONTACT: Jerry Huang, AD/CVD Operations, Office V, Enforcement and Compliance, International Trade Administration, U.S. Department of Commerce, 14th Street and Constitution Avenue NW., Washington, DC 20230; telephone: 202-482-4047.

SUPPLEMENTARY INFORMATION:

Background

On July 31, 2013, the Department received an adequate substantive response from domestic interested party Mid Continent Nail Corporation (“Petitioner”) within the deadline specified in 19 CFR 351.218(d)(3)(i).² We received no responses from respondent interested parties. As a result, the Department conducted an expedited (120-day) sunset review of the order, pursuant to section 751(c)(3)(B) of the Act and 19 CFR 351.218(e)(1)(ii)(C)(2). As explained in the memorandum from the Assistant Secretary for Enforcement and Compliance, the Department has exercised its discretion to toll deadlines for the duration of the closure of the Federal Government from October 1, through October 16, 2013.³ Therefore, all deadlines in this segment of the proceeding have been extended by 16 days. If the new deadline falls on a non-business day, in accordance with the Department's practice, the deadline will become the next business day.⁴ The revised deadline for the final results of this sunset review is now November 14, 2013.

² See Petitioner's July 31, 2013 submission.

³ See Memorandum for the Record from Paul Piquado, Assistant Secretary for the Enforcement and Compliance, “Deadlines Affected by the Shutdown of the Federal Government” (October 18, 2013).

⁴ See Notice of Clarification: Application of “Next Business Day” Rule for Administrative Determination Deadlines Pursuant to the Tariff Act of 1930, As Amended, 70 FR 24533 (May 10, 2005).

Scope of the Order

The merchandise covered by the order includes certain steel nails having a shaft length up to 12 inches. Certain steel nails subject to the order are currently classified under the Harmonized Tariff Schedule of the United States (“HTSUS”) subheadings 7317.00.55, 7317.00.65 and 7317.00.75. While the HTSUS subheadings are provided for convenience and customs purposes, the written description of the scope of the order is dispositive.

For a full description of the scope, see “Certain Steel Nails From the People's Republic of China: Issues and Decision Memorandum for the Final Results of Expedited First Sunset Review of the Antidumping Duty Order,” from Christian Marsh, Deputy Assistant Secretary for Antidumping and Countervailing Duty Operations, to Ronald K. Lorentzen, Acting Assistant Secretary for Enforcement and Compliance, dated concurrently with this notice (“Issues and Decision Memorandum”).

Analysis of Comments Received

All issues raised in this review are addressed in the Issues and Decision Memorandum. The issues discussed in the Issues and Decision Memorandum include the likelihood of continuation or recurrence of dumping and the magnitude of the margins likely to prevail if the order was to be revoked. Parties may find a complete discussion of all issues raised in the review and the corresponding recommendations in this public memorandum which is on file electronically via Enforcement and Compliance's Antidumping and Countervailing Duty Centralized Electronic Services System (“IA ACCESS”). Access to IA ACCESS is available to registered users at http://iaaccess.trade.gov and is available to all parties in the Central Records Unit, room 7046 of the main Department of Commerce building. In addition, a complete version of the Decision Memorandum can be accessed directly on the Web at http://enforcement.trade.gov/frn. The signed Decision Memorandum and the electronic versions of the Decision Memorandum are identical in content.

Final Results of Review

We determine that revocation of the order would be likely to lead to continuation or recurrence of dumping at the following weighted-average percentage margins:

Exporter | Weighted-average margin (percent)
Xingya Group | 21.24
Jisco Corporation | 21.24
Koram Panagene Co., Ltd | 21.24
Handuk Industrial Co., Ltd | 21.24
Kyung Dong Corp | 21.24
Xi'an Metals & Minerals Import and Export Co., Ltd | 21.24
Hebei Cangzhou New Century Foreign Trade Co., Ltd | 21.24
Chongqing Hybest Tools Group Co., Ltd | 21.24
China Silk Trading & Logistics Co., Ltd | 21.24
Beijing Daruixing Global Trading Co., Ltd | 21.24
Huanghua Jinhai Hardware Products Co., Ltd | 21.24
Beijing Daruixing Nail Products Co., Ltd | 21.24
Beijing Tri-Metal Co., Ltd | 21.24
Cana (Tianjin) Hardware Ind., Co., Ltd | 21.24
China Staple Enterprise (Tianjin) Co., Ltd | 21.24
Hengshui Mingyao Hardware & Mesh Products Co, Ltd | 21.24
Nanjing Dayu Pneumatic Gun Nails Co., Ltd | 21.24
Qidong Liang Chyuan Metal Industry Co., Ltd | 21.24
Romp (Tianjin) Hardware Co., Ltd | 21.24
Shandong Dinglong Import & Export Co., Ltd | 21.24
Tianjin Jinchi Metal Products Co., Ltd | 21.24
Tianjin Jurun Metal Products Co., Ltd | 21.24
Zhejiang Gem-Chun Hardware Accessory Co., Ltd | 21.24
Huanghua Xionghua Hardware Products Co., Ltd | 21.24
Zhaoqing Harvest Nails Co., Ltd | 21.24
SDC International Australia Pty., Ltd | 21.24
Tianjin Universal Machinery Imp & Exp Corporation | 21.24
Certified Products International Inc | 21.24
Dezhou Hualude Hardware Products Co., Ltd | 21.24
Shanxi Tianli Industries Co | 21.24
Suntec Industries Co., Ltd | 21.24
Sinochem Tianjin Imp & Exp Shenzhen Corp | 21.24
Qingdao D&L Group Ltd | 21.24
Tianjin Xiantong Material & Trade Co., Ltd | 21.24
Zhongshan Junlong Nail Manufactures Co., Ltd | 21.24
Shandong Minmetals Co., Ltd | 21.24
Shouguang Meiqing Nail Industry Co., Ltd | 21.24
S-mart (Tianjin) Technology Development Co., Ltd | 21.24
Tianjin Lianda Group Co., Ltd | 21.24
Union Enterprise (Kunshan) Co., Ltd | 21.24
Beijing Hong Sheng Metal Products Co., Ltd | 21.24
PT Enterprise Inc | 21.24
Shanxi Hairui Trade Co., Ltd | 21.24
Shanxi Pioneer Hardware Industrial Co., Ltd | 21.24
Shanxi Yuci Broad Wire Products Co., Ltd | 21.24
Yitian Nanjing Hardware Co., Ltd | 21.24
Chiieh Yung Metal Ind. Corp | 21.24
Shanghai Seti Enterprise International Co., Ltd | 21.24
Shanghai Curvet Hardware Products Co., Ltd | 21.24
Shanghai Tengyu Hardware Tools Co., Ltd | 21.24
Xuzhou CIP International Group Co., Ltd | 21.24
Wuhu Shijie Hardware Co., Ltd | 21.24
Wuhu Xin Lan De Industrial Co., Ltd | 21.24
Tianjin Zhonglian Metals Ware Co., Ltd | 21.24
Huarong Hardware Products Co., Ltd | 21.24
Mingguang Abundant Hardware Products Co., Ltd | 21.24
Shandong Oriental Cherry Hardware Group Co., Ltd | 21.24
Shandong Oriental Cherry Hardware Import and Export Co., Ltd | 21.24
Shanghai Chengkai Hardware Product. Co., Ltd | 21.24
Shanghai Jade Shuttle Hardware Tools Co., Ltd | 21.24
Shanghai Yueda Nails Industry Co., Ltd | 21.24
Besco Machinery Industry (Zhejiang) Co., Ltd | 21.24
The Stanley Works (Langfang) Fastening Systems Co., Ltd | 21.24
Guangdong Foreign Trade Import & Export Corporation | 21.24
Tianjin Jinghai County Hongli Industry and Business Co., Ltd | 21.24
PRC-Wide Rate | 118.04

Administrative Protective Order

This notice also serves as the only reminder to parties subject to the administrative protective order (“APO”) of their responsibility concerning the return or destruction of proprietary information disclosed under APO in accordance with 19 CFR 351.305. Timely notification of the return of destruction of APO materials or conversion to judicial protective order is hereby requested. Failure to comply with the regulations and terms of an APO is a violation which is subject to sanction.

This sunset review and notice are in accordance with sections 751(c), 752(c), and 771(i)(1) of the Act.

Dated: November 13, 2013.
Ronald K. Lorentzen,
Acting Assistant Secretary for Enforcement and Compliance.

[FR Doc. 2013-27824 Filed 11-19-13; 8:45 am]

BILLING CODE 3510-DS-P